DEPARTMENT OF TRANSPORTATION

Surface Transportation Board

[Docket No. FD 35728]

Union Pacific Railroad Company—Trackage Rights Exemption—Elgin, Joliet and Eastern Railway Company

Pursuant to a written trackage rights agreement dated December 18, 2012, Elgin, Joliet and Eastern Railway Company (EJ&E) ¹ has agreed to grant overhead trackage rights to Union Pacific Railroad Company (UP) over approximately 25.2 miles of the EJ&E rail line between milepost 0.0 (at or near Joliet, Ill.) and milepost 25.2 (at or near Chicago Heights, Ill.), approximately 9.2 miles between milepost 36.2 (at or near Griffith, Ind.) and milepost 45.4 (at or near Gary, Ind.), and approximately 6.6 miles between milepost 45.4 (at or near Gary, Ind.) and milepost 6.0 (at or near Goff, Ind.), for a total distance of approximately 41.0 miles.²

¹ On January 1, 2013, EJ&E was merged into Wisconsin Central Ltd. (WCL). See Wis. Cent. Ltd.—Intra-Corporate Family Merger Exemption—Elgin, Joliet & E. Ry., FD 35630 (STB served June 8, 2012) and Notice of Consummation filed January 4, 2013. In its verified notice of exemption in this docket, UP indicates that, as of January 1, 2013, the trackage rights agreement with EJ&E is valid and binding on WCL as EJ&E's successor-in-interest. The trackage rights agreement limits the number of trains UP may operate. See Verified Notice of Exemption, Exh. 2 at 7, 10.

² A redacted version of the trackage rights agreement between UP and EJ&E was filed with the notice of exemption. As required by 49 CFR 1180.6(a)(7)(ii), the unredacted version was concurrently filed under seal along with a motion for protective order. The motion is being addressed in a separate decision.

The transaction is scheduled to be consummated on May 5, 2013, the effective date of the exemption (30 days after the verified notice was filed).

The purpose of the transaction is to provide UP with connections to its existing trackage rights over the EJ&E line in Joliet, Chicago Heights, and Griffith, thereby providing UP a complete route, via trackage rights, around the Chicago area.³

³ In 1997, UP acquired trackage rights over 11 miles of EJ&E's rail line between milepost 25.2, near Chicago Heights, and milepost 36.2, near Griffith. See Union Pac. R.R.—Trackage Rights Exemption—Elgin, Joliet & E. Ry., FD 33347 (STB served Feb. 18, 1997). UP later acquired trackage rights over EJ&E's rail line between milepost 1.8, near Joliet, through West Chicago (milepost 29), to milepost 75.0, near Waukegan, Ill., a distance of approximately 76 miles. See Union Pac. R.R.—Trackage Rights Exemption—Elgin, Joliet & E. Ry., FD 33821 (STB served Dec. 20, 1999).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980). This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by April 26, 2013 (at least 7 days before the exemption becomes effective).

An original and 10 copies of all pleadings, referring to Docket No. FD 35728, must be filed with the Surface Transportation Board, 395 E Street SW., Washington, DC 20423-0001. In addition, a copy of each pleading must be served on Jeremy Berman, Union Pacific Railroad Company, 1400 Douglas Street STOP 1580, Omaha, NE 68179.

Board decisions and notices are available on our Web site at “www.stb.dot.gov.”

Decided: April 16, 2013.
By the Board, Rachel D. Campbell, Director, Office of Proceedings.
Raina S. White,
Clearance Clerk.

[FR Doc. 2013-09243 Filed 4-18-13; 8:45 am]

BILLING CODE 4915-01-P